DEPARTMENT OF HEALTH AND HUMAN SERVICES

Administration for Children and Families

Proposed Information Collection Activity; Comment Request

Title: Administration for Native Americans Objective Work Plan (OWP) and Objective Progress Report (OPR).

OMB No.: 0970-0452.

Description: Content and formatting changes are being made to the Administration for Native Americans' (ANA) Objective Work Plan (OWP) and Objective Progress Report (OPR). The OWP is used by applicants when they submit their proposals and then by grantees to monitor their projects once the award is made by ANA. Slight content changes are proposed for the OWP approved under information collection OMB No. 0970-0452, Expiration Date 6/30/2018. An extension of expiration date is also requested. This will streamline the information collection and reduce the number of elements.

OWP: The following are proposed content changes to the document: ANA proposes to eliminate Problem Statement and Results and Benefits and Criteria for Evaluation of results and benefits from the OWP. These elements will no longer be required by applicants for ANA discretionary grants. ANA will consolidate staffing into one field for both lead and support staff.

ANA will require applicants to differentiate between administrative activities and milestone activities. Administrative activities are those directly related to grant administration, such as reporting and attending post-award training. Milestone activities are key activities needed to complete project objectives. These activities may result in a single output; therefore ANA will require applicants to identify outputs related to milestone activities as necessary.

OPR: Currently, ANA requires grantees to report on the status of results and benefits in the OPR. This section will be deleted as ANA no longer requires grantees to identify results or benefits from their project, just outcomes. Outcomes will be reported annually in a separate OMB approved form.

Respondents: Tribal Governments, Native non-profit organizations, Tribal Colleges & Universities applying for ANA funding.

The following is the hour of burden estimate for this information collection:

Instrument | Number of respondents | Number of responses per respondent | Average burden hours per response | Total burden hours
OWP | 300 | 1 | 2 | 600
OPR | 275 | 2 | 1 | 550

Estimated Total Annual Burden Hours: 1,150.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street Washington, DC 20201, Attn: ACF Reports Clearance Officer. Email address: infocollection@acf.hhs.gov. All requests should be identified by the title of the information collection.

The Department specifically requests comments on: (a) The accuracy of the agency's estimate of the burden of the proposed collection of information; (b) the quality, utility, and clarity of the information to be collected; and (c) ways to minimize the burden of the collection of information on respondents, including through the use of automated collection techniques or other forms of information technology. Consideration will be given to comments and suggestions submitted within 60 days of this publication.

Robert Sargis,
Reports Clearance Officer.

[FR Doc. 2017-12691 Filed 6-16-17; 8:45 am]

BILLING CODE 4184-34-P